COMMISSION ON CIVIL RIGHTS

Sunshine Act Meeting

AGENCY: U.S. Commission on Civil Rights.

DATE AND TIME: Friday, January 11, 2002, 8:30 a.m.

PLACE: The location of this event has been changed. The new address is the U.S. Commission on Civil Rights, 624 Ninth Street, NW., Room 540, Washington, DC 20425.

STATUS: Open to the public.

Agenda

I. Approval of Agenda

II. Approval of Minutes of December 7, 2001 Meeting

III. Announcements

IV. Staff Director's Report

V. State Advisory Commission Appointments for District of Columbia, Maryland, Virginia and West Virginia

VI. Future Agenda Items

9:30 a.m.—Document Production Hearing for the Education Accountability Project

10:00 a.m.—Environmental Justice Hearing

Debra A. Carr,
Deputy General Counsel.

[FR Doc. 02-389 Filed 1-3-02; 10:53 am]

BILLING CODE 6335-01-M